DEPARTMENT OF LABOR

Employment and Training Administration

[TA-W-52,703]

McMurray Fabrics, Inc., Jamesville, NC; Notice of Termination of Investigation

Pursuant to section 221 of the Trade Act of 1974, an investigation was initiated on August 29, 2003, in response to a worker petition filed by a company official on behalf of workers at McMurray Fabrics Jamesville, Inc., Jamesville, North Carolina.

The petitioner has requested that the petition be withdrawn. Consequently, the investigation has been terminated.

Signed in Washington, DC, this 30th day of September, 2003.
Richard Church,
Certifying Officer, Division of Trade Adjustment Assistance.

[FR Doc. 03-27930 Filed 11-5-03; 8:45 am]

BILLING CODE 4510-30-P